DEPARTMENT OF ENERGY

FEDERAL ENERGY REGULATORY COMMISSION

[Project No. 7758-004]

The City of Holyoke Gas & Electric Department; Notice of Application Tendered for Filing With the Commission, Soliciting Additional Study Requests and Establishing Procedural Schedule for Relicensing and a Deadline for Submission of Final Amendments

March 8, 2005.

Take notice that the following hydroelectric application has been filed with the Commission and is available for public inspection.

a. Type of Application: Subsequent Licensing.

b. Project No.: 7758-004.

c. Date Filed: February 25, 2005.

d. Applicant: The City of Holyoke Gas & Electric Department.

e. Name of Project: Holyoke No. 4 Hydro Project.

f. Location: On the Holyoke Canal (Connecticut River), Hampden County, Massachusetts. The project does not use lands of the United States.

g. Filed Pursuant to: Federal Power Act 16 U.S.C. 791 (a)-825(r).

h. Applicant Contact: Nancy J. Skancke, Law Offices of GKRSE, 1500 K St. NW., Suite 330, Washington, DC 20005, (202) 408-5400.

i. FERC Contact: Jack Hannula, john.hannula@ferc.gov, (202) 502-8917.

j. Cooperating Agencies: We are asking Federal, state, and local agencies and Indian tribes with jurisdiction and/or special expertise with respect to environmental issues to cooperate with us in the preparation of the environmental document. Agencies who would like to request cooperating status should follow the instructions for filing comments described in item l. below.

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for Filing Additional Study Requests and Requests for Cooperating Agency Status: April 25, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site at (http://www.ferc.gov) under the “e-Filing” link.

m. This application is not ready for environmental analysis at this time.

n. Description of Project: The Holyoke No. 4 Project consists of: (a) Two 7-foot-diameter and 76-foot-long penstocks drawing water from the first level canal of the Holyoke Canal System; (b) a powerhouse with 2 turbine-generator units with a total rated capacity of 760 kW in the first floor of a 3-story brick building; (c) two 13-foot-wide and 300-foot-long tailraces discharging into the second level canal; (d) a 4.8-kV, 25-foot-long transmission line; (e) the 0.48-kV generator leads; (f) the 0.48/4.8-kV transformer; and (g) appurtenant facilities.

o. A copy of the application is available for review at the Commission in the Public Reference Room or may be viewed on the Commission's Web site at http://www.ferc.gov using the “eLibrary” link. Enter the docket number excluding the three digits in the docket number field to access the document. For assistance, contact FERC Online Support at FERCOnlineSupport@FERC.gov or toll free at 1-866-208-3076 or for TTY, (202) 502-8659. A copy is also available for inspection and reproduction at the address in item h above.

You may also register online at http://ferc.gov/docs-filing/esubscription.asp to be notified via e-mail of new filings and issuances related to this or other pending projects. For assistance, contact FERC Online Support.

p. With this notice, we are initiating consultation with the Massachusetts State Historic Preservation Officer (SHPO), as required by section 106, National Historic Preservation Act, and the regulations of the Advisory Council on Historic Preservation, 36, CFR., at § 800.4.

q. Procedural schedule and final amendments: The application will be processed according to the following Hydro Licensing Schedule. Revisions to the schedule will be made as appropriate.

Issue Acceptance or Deficiency Letter: April 2005.

Issue Scoping Document for Comments: May 2005.

Notice that application is ready for environmental analysis: August 2005.

Notice of the availability of the EA: February 2006.

Ready for Commission's decision on the Application: March 2006.

Final amendments to the application must be filed with the Commission no later than 30 days from the issuance date of the ready for environmental analysis notice.

Linda Mitry,
Deputy Secretary.

[FR Doc. E5-1096 Filed 3-14-05; 8:45 am]

BILLING CODE 6717-01-P